DEPARTMENT OF COMMERCE

National Oceanic and Atmospheric Administration

RIN 0648-XD161

Endangered and Threatened Species; Take of Anadromous Fish

AGENCY: National Marine Fisheries Service (NMFS), National Oceanic and Atmospheric Administration (NOAA), Commerce.

ACTION: Receipt of one permit application and one permit modification request for scientific research and enhancement.

SUMMARY: Notice is hereby given that NMFS has received one scientific research and enhancement permit application and one permit modification request relating to anadromous species listed under the Endangered Species Act (ESA). The proposed research activities are intended to increase knowledge of the species and to help guide management and conservation efforts. The applications and related documents may be viewed online at: https://apps.nmfs.noaa.gov/preview/preview_open_for_comment.cfm. These documents are also available upon written request or by appointment by contacting NMFS by phone (916) 930-3706 or fax (916) 930-3629.

DATES: Written comments on the permit applications or modification request must be received at the appropriate address or fax number (see ADDRESSES) no later than 5 p.m. Pacific standard time on April 9, 2014.

ADDRESSES: Written comments on the application or modification request should be submitted to: NMFS West Coast Region, 650 Capitol Mall, Room 5-100, Sacramento, CA 95814. Comments may also be submitted via fax to (916) 930-3629 or by email to FRNpermits.sac@noaa.gov.

FOR FURTHER INFORMATION CONTACT: Amanda Cranford, Sacramento, CA (phone: (916) 930-3706, email: Amanda.Cranford@noaa.gov).

SUPPLEMENTARY INFORMATION:

Species Covered in This Notice

This notice is relevant to federally threatened California Central Valley steelhead (Oncorhynchus mykiss), threatened Central Valley spring-run Chinook salmon (O. tshawytscha), endangered Sacramento River winter-run Chinook salmon (O. tshawytscha), and the threatened southern distinct population segment of North American (SDPS) green sturgeon (Acipenser medirostris).

Authority

Scientific research permits are issued in accordance with Section 10(a)(1)(A) of the ESA of 1973 (16 U.S.C. 1531-1543) and regulations governing listed fish and wildlife permits(50 CFR Parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the permit applications listed in this notice should set out the specific reasons why a hearing on the application(s) would be appropriate (see ADDRESSES). Such hearings are held at the discretion of the Assistant Administrator for Fisheries, NMFS.

Applications Received

Permit 18251

The Marine Science Institute (MSI) is requesting a 5-year scientific research and enhancement permit for take of Sacramento River winter-run Chinook salmon smolts, Central Valley spring-run Chinook salmon smolts, California Central Valley steelhead smolts, and juvenile SDPS green sturgeon associated with monitoring and research activities conducted in the Sacramento-San Joaquin Delta (Delta), Central Valley, California.

The purpose of this research is to educate local 6th graders and their parents about the Delta ecosystem and to teach them how to be better stewards of the watershed. Part of this education process involves using an otter trawl to bring up a sample of local fish species in order to study them. The students learn about how their actions can affect the watershed and the life with in it (topics include their personal water use/conservation practices, wastewater versus storm drains, disposal of trash/recycling, contaminates/biomagnification, and household hazardous waste disposal). Students also learn about local native, non-native, threatened, and endangered animals. Overall this increases the general public's knowledge and stewardship role in protecting the Delta and its inhabitants. This in turn increases the survival chances of the species of concern in an area that is politically charged around Delta issues.

The students will go on a 3.5 hour voyage. During the voyage they will rotate through four stations: Hydrology (discussion based), Benthic (mud grab and invertebrate study), Plankton (plankton tow and identification), and Ichthyology (Otter trawl and fish identification). During the Ichthyology station a five minute mid-water trawl using an Otter trawl will be used to collect fish for the students to study. The net will emptied by instructional staff into a tank that is constantly refilled with water from the Delta. Any species of concern is then identified and immediately released back into the Delta. Fish are transferred from the tank back into Delta by buckets filled with water from the Delta to minimize the amount of stress the fish experiences.

Modification Request Received

Permit 17428—Modification 1

Permit 17428 was issued to the United States Fish and Wildlife Service (USFWS) on January 23, 2013 for take of adult, smolt, and fry California Central Valley steelhead, juvenile Sacramento River winter-run Chinook salmon and juvenile Central Valley spring-run Chinook salmon associated with research activities in the Lower American River, in Sacramento County, California.

The modification is being requested because the original permit application underestimated the number of California Central Valley steelhead and Sacramento River winter-run Chinook salmon that would be caught by the American River rotary screw traps (RSTs). As described in the application, a higher take limit for those taxa is being requested, and those numbers more closely reflect the actual number of ESA-listed salmonids that were caught during the 2013 sampling season and could be caught in future years. Other language in the original permit application, e.g., the data collection procedures and avoidance and minimization measures, are hereby incorporated into the modified application without change

Two to four RSTs will be deployed on the American River downstream of the Watt Avenue Bridge from 2014 through 2017. Each year, RSTs will be operated 5—7 days each week between January 1 and June 30. Trap operations will focus on the collection of the juvenile life stage of ESA-listed California Central Valley steelhead and non-listed fall-run Chinook salmon. If salmon that may be ESA-listed Central Valley spring- or Sacramento River winter-run Chinook salmon are captured, fin clips will be taken so those samples can be used in genetic studies to determine which runs are actually present. Captured fish will be released alive immediately downstream of the RSTs. The proposed monitoring project does not include activities designed to intentionally result in the death of listed taxa. Ten measures designed to reduce adverse effects relating to the monitoring project will be undertaken, e.g., servicing traps each day so none of the captured fish experience a hold time in excess of 24 hours.

Dated: March 4, 2014.
Angela Somma,
Chief, Endangered Species Division, Office of Protected Resources, National Marine Fisheries Service.

[FR Doc. 2014-05089 Filed 3-7-14; 8:45 am]

BILLING CODE 3510-22-P